FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than June 27, 2022.

A. Federal Reserve Bank of St. Louis (Holly A. Rieser, Senior Manager) P.O. Box 442, St. Louis, Missouri 63166-2034 or by email at Comments.applications@stls.frb.org:

1. The William A Carlson 2007 Trust, William A. Carlson and Pam Falkner, as co-trustees, Carlson Andrew Bennage, and Catherine Jane Carlson Bennage, all of West Memphis, Arkansas; Michael Dustin Carlson, two minor children of Michael Dustin Carlson, Marilyn Hayes Carlson, and Michael Andrew Carlson, all of Marion, Arkansas; Kirby Hayes Carlson, Proctor, Arkansas; and the William C. Carlson Living Trust, William C. Carlson, as trustee, Hot Springs, Arkansas; as members of a group acting in concert, to retain voting shares of Carlson Bancshares, Inc., and thereby indirectly retain voting shares of Fidelity Bank, West Memphis, Arkansas.

B. Federal Reserve Bank of Kansas City (Jeffrey Imgarten, Assistant Vice President) 1 Memorial Drive, Kansas City, Missouri 64198-0001:

1. The Luann M. Walker Trust, Luann Walker GST Management Trust, and Dale F. Walker GST Management Trust, Luann Walker as trustee of the aforementioned trusts, all of Ardmore, Oklahoma; Robert Keith Walker GST Management Trust, Ardmore, Oklahoma, Robert K. Walker, individually, and as trustee of the Robert Keith Walker GST Management Trust, and Christy Godwin, both of Denver, Colorado; and DFW Trust, Ardmore, Oklahoma, Dale Walker and Mary Walker, as co-trustees, both of Norman, Oklahoma; as a group acting in concert, to retain voting shares of First National Corporation of Ardmore, Inc., and thereby indirectly retain voting shares of First National Bank and Trust Company of Ardmore, both of Ardmore, Oklahoma.

Board of Governors of the Federal Reserve System.
Michele Taylor Fennell,
Deputy Associate Secretary of the Board.

[FR Doc. 2022-12593 Filed 6-9-22; 8:45 am]

BILLING CODE P